RAILROAD RETIREMENT BOARD

Proposed Data Collection(s) Available for Public Comment and Recommendations

SUMMARY: In accordance with the requirement of Section 3506(c)(2)(A) of the Paperwork Reduction Act of 1995 which provides opportunity for public comment on new or revised data collections, the Railroad Retirement Board (RRB) will publish periodic summaries of proposed data collections.

Comments are invited on: (a) Whether the proposed information collections are necessary for the proper performance of the functions of the agency, including whether the information has practical utility; (b) the accuracy of the RRB's estimate of the burden for the collection of the information; (c) ways to enhance the quality, utility, and clarity of the information to be collected; and (d) ways to minimize the burden related to the collection of information on respondents, including the use of automated collection techniques or other forms of information technology.

1. Title and Purpose of Information Collection

Application for Survivor Death Benefits; OMB 3220-0031

Under Section 6 of the Railroad Retirement Act (RRA), lump-sum death benefits are payable to surviving widow and widowers, children and certain other dependents. Lump-sum death benefits are payable after the death of a railroad employee only if there are no qualified survivors of the employee immediately eligible for annuities. With the exception of the residual death benefit, eligibility for survivor benefits depends on whether the employee was “insured” under the RRA at the time of death. If a deceased employee was not so insured, jurisdiction of any survivor benefits payable is transferred to the Social Security Administration and survivor benefits are paid by that agency instead of the RRB. The collection obtains the information required by the RRB to determine entitlement to and amount of the survivor death benefits applied for.

The RRB currently utilizes Form(s) AA-11a (Designation for Change of Beneficiary for Residual Lump-Sum), AA-21cert, (Application Summary and Certification), AA-21 (Application for Lump-Sum Death Payment and Annuities Unpaid at Death), G-131 (Authorization of Payment and Release of All Claims to a Death Benefit or Accrued Annuity Payment), and G-273a (Funeral Director's Statement of Burial Charges), to obtain the necessary information. One response is requested of each respondent. Completion is required to obtain benefits.

The RRB proposes no changes to any of the forms in the information collection.

Estimate of Annual Respondent Burden
[The estimated annual respondent burden is as follows]
Form #(s) | Annual responses | Time (min) | Burden (hrs)
AA-11a | 200 | 10 | 33
AA-21cert (with assistance) | 5,400 | 20 | 1,800
AA-21 manual (without assistance) | 300 | 40 | 200
G-131 | 600 | 5 | 50
G-273a | 5,000 | 10 | 833
Total | 11,500 |  | 2,916

2. Title and Purpose of Information Collection

Request for Medicare Payment; OMB 3220-0131

Under Section 7(d) of the Railroad Retirement Act, the RRB administers the Medicare program for persons covered by the railroad retirement system. The collection obtains the information needed by Palmetto GBA, the Medicare carrier for railroad retirement beneficiaries, to pay claims for payments under Part B of the Medicare program. Authority for collecting the information is prescribed in 42 CFR 424.32.

The RRB currently utilizes Forms G-740S, Patient's Request for Medicare Payment, (along with Centers for Medicare and Medicaid Services Form CMS-1500) to secure the information necessary to pay Part B Medicare Claims. The RRB proposes minor non-burden impacting editorial changes to RRB Form G-740S. The completion time for Form G-740S is estimated at 15 minutes. The RRB estimates that approximately 100 Form G-740S's are received annually. Completion is required to obtain a benefit. One response is completed for each claim.

3. Title and Purpose of Information Collection

Statement of Claimant or Other Person; OMB 3220-0183

To support an application for an annuity under Section 2 of the Railroad Retirement Act (RRA) or for unemployment benefits under Section 2 of the Railroad Unemployment Insurance Act (RUIA), pertinent information and proofs must be furnished for the RRB to determine benefit entitlement. Circumstances may require an applicant or other person(s) having knowledge of facts relevant to the applicant's eligibility for an annuity or benefits to provide written statements supplementing or changing statements previously provided by the applicant. Under the railroad retirement program these statements may relate to changes in annuity beginning date(s), dates for marriage(s), birth(s), prior railroad or non-railroad employment, an applicant's request for reconsideration of an unfavorable RRB eligibility determination for an annuity or various other matters. The statements may also be used by the RRB to secure a variety of information needed to determine eligibility to unemployment and sickness benefits. Procedures related to providing information needed for RRA annuity or RUIA benefit eligibility determinations are prescribed in 20 CFR 217 and 320 respectively. The RRB utilizes Form G-93, Statement of Claimant or Other Person to obtain the supplemental or corrective information from applicants or other persons needed to determine applicant eligibility for an RRA annuity or RUIA benefits.

The RRB proposes no changes to Form G-93. The completion time for Form G-93 is estimated at 15 minutes per response. The RRB estimates that approximately 900 Form G-93's are received annually. Completion is voluntary. One response is requested of each respondent.

Additional Information or Comments: To request more information or to obtain a copy of the information collection justification, forms, and/or supporting material, please call the RRB Clearance Officer at (312) 751-3363 or send an e-mail request to Charles.Mierzwa@RRB.GOV. Comments regarding the information collection should be addressed to Ronald J. Hodapp, Railroad Retirement Board, 844 North Rush Street, Chicago, Illinois 60611-2092 or send an e-mail to Ronald.Hodapp@RRB.GOV. Written comments should be received within 60 days of this notice.

Charles Mierzwa,
Clearance Officer.

[FR Doc. E9-3086 Filed 2-12-09; 8:45 am]

BILLING CODE 7905-01-P